DEPARTMENT OF COMMERCE

Foreign-Trade-Zones Board

[Order No. 1346]

Expansion of Foreign-Trade-Zone 200, Mercer County, NJ

Pursuant to its authority under the Foreign-Trade Zones Act of June 18, 1934, as amended (19 U.S.C. 81a-81u), the Foreign-Trade Zones Board (the Board) adopts the following Order:

Whereas, Mercer County, New Jersey, grantee of Foreign-Trade Zone 200, submitted an application to the Board for authority to expand FTZ 200 to include sites at 1425/1445 Lower Ferry Road and 7 Graphics Drive (Site 2), Marine Terminal Industrial Park (Site 3a), Hill Industrial Park (Site 3b), Northwest Business Park (Site 4a), Windsor Industrial Park (Site 4b), North Gold Industrial Park (Site 4c), New Jersey Turnpike Exit 8—Route 33 Corridor (Site 5), and Hamilton Business Park (Site 6), within the Consolidated Port of the Delaware River and Bay Customs port of entry (FTZ Docket 53-2003, filed 10/3/2003, amended 3/8/2004);

Whereas, notice inviting public comment has been given in the Federal Register (68 FR 58652, 10/10/03 and 69 FR 12301, 3/16/04);

Whereas, the Board adopts the findings and recommendations of the examiner's report, and finds that the requirements of the FTZ Act and Board's regulations would be satisfied, and that approval of the application would be in the public interest if subject to a sunset provision;

Now, therefore, the Board hereby orders:

The application to expand FTZ 200 is approved as amended, subject to the FTZ Act and the Board's regulations, including § 400.28 and further subject to a sunset provision that would terminate authority for the proposed sites on August 31, 2009, unless the sites are activated under FTZ procedures.

Signed at Washington, DC, this 18th day of August 2004.
James J. Jochum,
Assistant Secretary for Import Administration, Alternate Chairman, Foreign-Trade Zones Board.

[FR Doc. 04-19725 Filed 8-27-04; 8:45 am]

BILLING CODE 3510-D3-P